DEPARTMENT OF JUSTICE

Notice of Lodging of Consent Decree Under the Comprehensive Environmental Response, Compensation and Liability Act (“CERCLA”)

Under 28 CFR 50.7, notice is hereby given that on August 11, 2004, a proposed consent decree in City of San Bernardino Municipal Water Department v. United States of America, Department of the Army (C.D. Cal.) and State of California, on behalf of the Department of Toxic Substances Control v. United States of America, Department of the Army (C.D. Cal.) Civil Actopm Nos. CV 96-8867 and CV 96-5205 (consolidated), was lodged with the United States District Court for the Central District of California.

The Decree addresses the cleanup of groundwater contamination at the Newmark Groundwater Contamination Superfund Site (“Newmark Site”) in San Bernardino, California. The Decree would resolve the cost recovery claims by the Plaintiffs City of San Bernardino and State of California against the United States, as well as the United States' potential claims against the City of San Bernardino for response costs and cleanup related to the Newmark Site.

The Environmental Protection Agency (“EPA”), Region IX, has been conducting a fund-lead cleanup at the Newmark Site since 1989. The proposed settlement provides for the completion of the construction of groundwater extraction and treatment facilities for the Muscoy Operable Unit at the Newmark Site, 50 years of operation and maintenance of both the Muscoy and the Newmark Operable Units, and Site-wide monitoring.

The Department of Justice will receive for a period of thirty (30) days from the date of this publication comments relating to the consent decree. Comments should be addressed to the Assistant Attorney General, Environment and Natural Resources Division, P.O. Box 7611, U.S. Department of Justice, Washington, DC 20044-7611, with a copy to Cynthia Huber, Senior Attorney, General Litigation Section, Environment and Natural Resources Division, U.S. Dept. of Justice, P.O. Box 663, Washington, DC 20044, and should refer to City of San Bernardino Municipal Water Department v. United States of America, Department of the Army (C.D. Cal.), D.J. Ref. #90-11-3-06902/1.

The consent decree may be examined at the Office of the United States Attorney, Central District of California, Civil Division, 300 North Los Angeles Street, Los Angeles, California 90012, and at U.S. EPA Region 9, Office of Regional Counsel, 75 Hawthorne Street, San Francisco, California. During the public comment period, the consent decree may also be examined on the following Department of Justice Web site: http://www.usdoj.gov/enrd/open.html. A copy of the consent decree may also be obtained by mail from the Consent Decree Library, P.O. Box 7611, U.S. Department of Justice, Washington, DC 20044-7611 or by faxing or e-mailing a request to Tonia Fleetwood (tonia.fleetwood@usdoj.gov), fax No. (202) 514-0097, phone confirmation number (202) 514-1547. In requesting a copy from the Consent Decree Library, please enclose a check in the amount of $83.75 (25 cents per page reproduction cost) payable to the U.S. Treasury.

W. Benjamin Fisherow,
Deputy Chief, Environmental Enforcement Section, Environment and Natural Resources Division.

[FR Doc. 04-18938 Filed 8-17-04; 8:45 am]

BILLING CODE 4410-15-M